DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of October 1, 2021 through October 31, 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,075 | AVX Filters Corporation | Sun Valley, CA | 10/6/2021
98,076 | Emerson Process Management LLLP | Eden Prairie, MN | 10/6/2021
98,077 | Melissa and Doug, LLC | Wilton, CT | 10/6/2021
98,078 | Gannett Co., Inc | Fort Smith, AR | 10/7/2021
98,079 | Showa Best Glove Inc | Menlo, GA | 10/8/2021
98,080 | Scema LLC | Mason City, IA | 10/12/2021
98,081 | Stupp Corporation | Baton Rouge, LA | 10/12/2021
98,082 | US Well Services, LLC | Pleasanton, TX | 10/13/2021
98,083 | US Well Services, LLC | San Angelo, TX | 10/13/2021
98,084 | New York Air Brake, LLC | Watertown, NY | 10/14/2021
98,085 | Saginaw Metal Casting Operations | Saginaw, MI | 10/15/2021
98,086 | PGI | Colorado Springs, CO | 10/18/2021
98,087 | PerkinElmer, Inc | Shelton, CT | 10/19/2021
98,088 | Caterpillar Inc.,—Logistics | Morton, IL | 10/20/2021
98,089 | Kemper Valve and Fittings Corp | Island Lake, IL | 10/20/2021
98,090 | TPI Composites, Inc | Newton, IA | 10/21/2021
98,091 | Maine Bucket Co./Maine Barrel & Display Company | Lewiston, ME | 10/22/2021
98,092 | Vistra Corp | Moscow, OH | 10/22/2021
98,093 | Wells Fargo | Columbia, MD | 10/25/2021
98,094 | Classic | Jessup, MD | 10/26/2021
98,095 | Collins Aerospace | Cedar Rapids, IA | 10/26/2021
98,096 | Pactiv Evergreen | Pine Bluff, AR | 10/26/2021
98,097 | Verizon Business Network | Irving, TX | 10/26/2021
98,098 | Micron Technology | Meridian, ID | 10/27/2021
98,099 | Staffmark Investment LLC | Santa Ana, CA | 10/27/2021
98,100 | Sulzer Pumps USA Inc | Portland, OR | 10/27/2021

A record of these investigations and petitions filed are available, subject to redaction, on the Department's website https://www.dol.gov/agencies/eta/tradeact under the searchable listing or by calling the Office of Trade Adjustment Assistance toll free at 888-365-6822.

Signed at Washington, DC, this 4th day of November 2021.
Hope D. Kinglock,
Certifying Officer, Office of Trade Adjustment Assistance.

[FR Doc. 2021-25041 Filed 11-16-21; 8:45 am]

BILLING CODE 4510-FN-P